DEPARTMENT OF HOUSING AND URBAN DEVELOPMENT

[Docket No. FR-5683-C-11]

Notice of Submission of Proposed Information Collection to OMB HOME Investment Partnerships Program: Correction

AGENCY: Office of the Chief Information Officer, HUD.

ACTION: Notice; Correction.

SUMMARY: On February 8, 2013, at 77 FR 9407 HUD published a notice of submission of proposed Information Collection to OMB entitled “HOME Investment Partnerships Program.” This document corrects the Form Numbers.

Correction

Form Numbers: HUD 40093, SF 1199A, HUD 27055, HUD 40107, HUD 401107A.

FOR FURTHER INFORMATION CONTACT: Colette Pollard, Reports Management Officer, QDAM, Department of Housing and Urban Development, 451 Seventh Street SW., Washington, DC 20410; email Colette Pollard at Colette.Pollard@hud.gov. or telephone (202) 402-3400. This is not a toll-free number. Copies of available documents submitted to OMB may be obtained from Ms. Pollard.

Dated: February 8, 2013.
Colette Pollard,
Department Reports Management Officer, Office of the Chief Information Officer.

[FR Doc. 2013-03473 Filed 2-13-13; 8:45 am]

BILLING CODE 4210-67-P